DEPARTMENT OF LABOR

Mine Safety and Health Administration

DEPARTMENT OF HEALTH AND HUMAN SERVICES

Centers for Disease Control and Prevention

Workshop on Mine Escape Planning and Emergency Shelters

AGENCY: Mine Safety and Health Administration and the National Institute for Occupational Safety and Health.

ACTION: Notice of workshop.

SUMMARY: The Mine Safety and Health Administration (MSHA) and the National Institute for Occupational Safety and Health (NIOSH) are hosting a workshop to identify the major issues and concerns related to mine escape planning and emergency shelters in the mining industry, and share information with the mining community. The workshop will provide for an exchange of information among all segments of the mining community involved with mine emergency preparedness and will generate an agenda for research to improve technology for mine safety in these areas.

DATES: The workshop will be held on Tuesday, April 18, beginning at 8 a.m. and conclude by 5:30 p.m.

ADDRESSES: The workshop will be held at the National Academy of Sciences Auditorium, 2101 Constitution Avenue, NW., Washington, DC.

FOR FURTHER INFORMATION CONTACT: Dr. Jeffery H. Kravitz, MSHA, at 412-386-6923 or Dr. Gerald L. Finfinger, NIOSH, at 412-386-6550.

SUPPLEMENTARY INFORMATION: MSHA and NIOSH will moderate a day-long workshop on mine escape planning and emergency shelters.

Location and Transportation

Participants should plan to arrive by Metro or taxi and enter the building at 2100 “C” Street, NW. A shuttle leaves the Foggy Bottom Metro station at 7:15 a.m. and runs directly to the National Academy building. The National Academy has a cafeteria in the building.

Attendance and Registration

The workshop is open to all interested parties. In addition to state and federal government representatives, we expect that mine operators, labor representatives, and manufacturers will be interested in this workshop. We encourage manufacturers and distributors of emergency shelters, self-rescue devices, mine rescue apparatus, and other equipment that can aid in mine escape, evacuation, rescue, and recovery operations to attend this workshop.

You can register at the workshop or you can pre-register by contacting one of the following persons:

• Donna Opfer (NIOSH) at 412-386-6564, Dopfer@cdc.com;

• John Sporrer (NIOSH) at 412-386-6435, JSporrer@cdc.com; or

• Yvonne Quinn (MSHA) at 202-693-9440, quinn.yvonne@dol.gov.

We will include all participants on the registration list and make it available at the workshop.

Scheduled Presentations

Representatives from MSHA and NIOSH will be discussing issues involving mine escape planning, with an emphasis on evacuation as a first priority, and emergency shelters. Invited international speakers include representatives from Canada, Germany, South Africa, and Australia. MSHA and NIOSH will provide participants an opportunity to ask questions and submit written comments and information.

Tentative Agenda

You can find workshop information, including a tentative agenda, on the NIOSH and MSHA Internet sites, http://www.cdc.gov/niosh and http://www.msha.gov. Topics addressing mine escape planning will include the philosophy of escape planning, a recent history of mine escapes, warning systems, and the use of self-rescue devices and lifelines. Tentative topics addressing emergency shelters include the history of the use of emergency shelters, how mine design has changed since the 1980s, shelter placement in the mine, configuration and construction, life support and instrumentation, communication issues, equipment and supplies, and psychological and training issues.

Workshop Proceedings

MSHA and NIOSH will compile the workshop presentations, which are in PowerPoint” format, audiotape the workshop, and make a transcript of the proceedings. The PowerPoint® presentations and workshop transcript will be made available on the NIOSH and MSHA Internet sites, http://www.cdc.gov/niosh and http://www.msha.gov. At a later date, MSHA and NIOSH will summarize the information presented by participants and prepare a joint report.

Dated: March 20, 2006.
David G. Dye,
Acting Assistant Secretary for Mine Safety and Health.

Dated: March 21, 2006.
Dr. John Howard,
Director, National Institute for Occupational Safety and Health.

[FR Doc. 06-2905 Filed 3-23-06; 8:45 am]

BILLING CODE 4510-43-P